DEPARTMENT OF HEALTH AND HUMAN SERVICES

Health Resources and Services Administration

Improving Ryan White HIV/AIDS Program Part A and B Formula Awards Using Most Recent Address Data

AGENCY: Health Resources and Services Administration (HRSA), Department of Health and Human Services

ACTION: Notice.

SUMMARY: The Ryan White HIV/AIDS Program (RWHAP) Part A and B funding formulas are defined by the Public Health Service (PHS) Act and rely on the living HIV/AIDS cases reported to and confirmed by the Centers for Disease Control and Prevention (CDC). Advancements in HIV surveillance have improved the mapping of the epidemic, leading to better care strategies. Since 2017, CDC has shifted to using the most recent addresses of people with HIV for reporting, raising questions about whether RWHAP funds follow clients or remain in the jurisdiction of diagnosis. HRSA has analyzed the effects of this updated methodology on formula funding and is now seeking public feedback on proposed changes to better direct resources to where clients currently live and receive care.

DATES: Submit comments no later than December 10, 2025.

ADDRESSES: Written or electronic comments should be submitted to Division of Policy and Data, HRSA, HIV/AIDS Bureau, 5600 Fishers Lane, Rockville, MD 20857, or RyanWhiteComments@hrsa.gov.

FOR FURTHER INFORMATION CONTACT: Paul Mandsager, Senior Public Health Analyst, Division of Policy and Data, HRSA, HIV/AIDS Bureau, 5600 Fishers Lane, Rockville, MD 20857, Phone 301-594-4055, Email RyanWhiteComments@hrsa.gov.

SUPPLEMENTARY INFORMATION: The RWHAP Part A formula is set forth in the RWHAP authorizing statute at § 2603(a) of the PHS Act, 42 U.S.C. 300ff-13(a), and is based on the relative distribution of living HIV/AIDS cases within a statutorily specified metropolitan area reported to and confirmed by CDC. The RWHAP Part B formulas are found in §§ 2618(a)(2) and (a)(2)(F) of the PHS Act, 42 U.S.C. 300ff-28(a)(2) and (a)(2)(F) and use weighted or relative distribution of living HIV/AIDS cases within the state reported to and confirmed by CDC.

Recent advancements in HIV surveillance data have resulted in more accurate mapping of the HIV epidemic, allowing for more efficient and effective HIV care and treatment efforts at the state, local, and national levels. As a result of these advancements, beginning in 2014, CDC began the transition to reporting surveillance data based on the most recent address of a person with HIV, usually reported via CD4/viral load lab reports, rather than residence at HIV diagnosis. Since that time, HRSA has received several inquiries about whether RWHAP funds follow clients as they move or if the funds stay in the jurisdiction in which the clients were originally diagnosed.

HRSA conducted multiple analyses on the impact the updated HIV surveillance data would have on the RWHAP Part A and B formula award funding after maturation of the CDC methodology and when all jurisdictions were reporting most recent address to CDC. Now that this transition has been fully realized, to better allocate resources to the jurisdictions where clients currently reside and receive care, HRSA is seeking public comment on this proposed change in methodology and timing.

Proposed Methodology

The funding methodology used to calculate RWHAP Part A and B formula awards would use living HIV and AIDS case data based on most recent address, rather than residence at diagnosis, with a phase-in timeline and use of appropriate action to minimize funding fluctuations.

The methodology for determining RWHAP Part A and B eligibility would remain unchanged.

Proposed Timing of Implementation

The statute requires the use of “distribution factor” but the distribution factor requires only that the data be reported to and confirmed by CDC. Once CDC certifies that the data are sufficiently robust to confirm, HRSA has the authority to accept those data based on the most recent address. It does not, however, have the authority to phase in that change without providing the public with notice and an opportunity to comment.

HRSA determined that using most recent address data without a phased approach would lead to a disruption in the HIV care and treatment system across RWHAP Part A and Part B jurisdictions as some would experience substantial funding increases or decreases. HRSA is therefore proposing a phased approach over a 5-year period (fiscal year (FY) 2026 to FY 2030) to allow for a gradual transition. Any funding increase or decrease that occurs in year one (FY 2026) as a result of the new methodology will be spread out over a 5-year period (see Tables 1 and 2). This will minimize disruption and ensure that recipients and systems of care have the time and resources to adapt. By gradually phasing in the changes, RWHAP recipients can better manage potential increases or decreases in funding and adjust their resource allocation strategies accordingly.

The RWHAP statute included a phased approach for implementation of a similar change from code-based HIV case surveillance reporting to name-based reporting in prior RWHAP reauthorizations. The statutory language permitted a phased approach to minimize disruption, allow for implementation on the local level, and for CDC verification of data. This prior approach is codified at § 2603(a)(3)(C) of the PHS Act, 42 U.S.C. 300ff-13(a)(3)(C), and § 2618(a)(2)(D) of the PHS Act, 42 U.S.C. 300ff-28(a)(2)(D). HRSA proposes to use the same phased approach as was used in the transition from code-based to name-based HIV reporting and seeks public comment on this proposal.

Table 1—Estimated Future Part A Total Awards, 5-Year Transition
[Based on the FY 2025 Appropriation, not any future appropriations]
Part A jurisdiction | FY 2025 final | FY 2026 | FY 2027 | FY 2028 | FY 2029 | FY 2030 | Est. % change FY 2025- FY 2030
Atlanta, GA | $32,339,493 | $32,974,435 | $33,609,378 | $34,244,320 | $34,879,263 | $35,514,205 | 10
Austin, TX | 5,702,606 | 5,769,180 | 5,835,753 | 5,902,327 | 5,968,900 | 6,035,474 | 6
Baltimore, MD | 15,660,695 | 15,631,048 | 15,601,402 | 15,571,755 | 15,542,109 | 15,512,462 | −1
Baton Rouge, LA | 4,551,433 | 4,540,914 | 4,530,395 | 4,519,876 | 4,509,357 | 4,498,838 | −1
Boston, MA | 15,183,838 | 15,195,167 | 15,206,495 | 15,217,824 | 15,229,152 | 15,240,481 | 0
Charlotte, NC | 6,913,452 | 6,897,092 | 6,880,732 | 6,864,371 | 6,848,011 | 6,831,651 | −1
Chicago, IL | 27,666,573 | 27,284,549 | 26,902,525 | 26,520,500 | 26,138,476 | 25,756,452 | −7
Cleveland, OH | 4,772,432 | 4,773,163 | 4,773,894 | 4,774,625 | 4,775,356 | 4,776,087 | 0
Columbus, OH | 5,006,629 | 4,994,876 | 4,983,123 | 4,971,369 | 4,959,616 | 4,947,863 | −1
Dallas, TX | 21,184,061 | 21,442,742 | 21,701,423 | 21,960,103 | 22,218,784 | 22,477,465 | 6
Denver, CO | 7,340,580 | 7,368,672 | 7,396,764 | 7,424,857 | 7,452,949 | 7,481,041 | 2
Detroit, MI | 10,075,549 | 9,998,181 | 9,920,813 | 9,843,444 | 9,766,076 | 9,688,708 | −4
Fort Lauderdale, FL | 16,023,456 | 16,393,018 | 16,762,580 | 17,132,143 | 17,501,705 | 17,871,267 | 12
Fort Worth, TX | 5,547,578 | 5,642,526 | 5,737,474 | 5,832,422 | 5,927,370 | 6,022,318 | 9
Hartford, CT | 2,944,998 | 2,951,034 | 2,957,070 | 2,963,107 | 2,969,143 | 2,975,179 | 1
Houston, TX | 27,558,403 | 27,795,071 | 28,031,740 | 28,268,408 | 28,505,077 | 28,741,745 | 4
Indianapolis, IN | 4,910,030 | 4,898,222 | 4,886,414 | 4,874,605 | 4,862,797 | 4,850,989 | −1
Jacksonville, FL | 6,108,505 | 6,117,798 | 6,127,091 | 6,136,385 | 6,145,678 | 6,154,971 | 1
Kansas City, MO | 4,513,410 | 4,415,080 | 4,316,750 | 4,218,421 | 4,120,091 | 4,021,761 | −11
Las Vegas, NV | 7,551,492 | 7,755,684 | 7,959,876 | 8,164,067 | 8,368,259 | 8,572,451 | 14
Los Angeles, CA | 46,295,740 | 45,729,574 | 45,163,409 | 44,597,243 | 44,031,078 | 43,464,912 | −6
Memphis, TN | 6,902,702 | 6,886,126 | 6,869,550 | 6,852,973 | 6,836,397 | 6,819,821 | −1
Miami, FL | 26,788,349 | 26,566,917 | 26,345,485 | 26,124,054 | 25,902,622 | 25,681,190 | −4
Mineola, NY | 5,653,528 | 5,638,727 | 5,623,925 | 5,609,124 | 5,594,322 | 5,579,521 | −1
Minneapolis, MN | 6,129,008 | 6,180,187 | 6,231,366 | 6,282,546 | 6,333,725 | 6,384,904 | 4
Nashville, TN | 4,443,640 | 4,432,440 | 4,421,239 | 4,410,039 | 4,398,838 | 4,387,638 | −1
New Brunswick, NJ | 2,803,890 | 2,764,620 | 2,725,349 | 2,686,079 | 2,646,808 | 2,607,538 | −7
New Haven, CT | 5,273,601 | 5,275,392 | 5,277,183 | 5,278,974 | 5,280,765 | 5,282,556 | 0
New Orleans, LA | 8,058,405 | 7,911,429 | 7,764,453 | 7,617,477 | 7,470,501 | 7,323,525 | −9
New York, NY | 89,662,231 | 90,053,722 | 90,445,213 | 90,836,703 | 91,228,194 | 91,619,685 | 2
Newark, NJ | 12,277,381 | 12,122,018 | 11,966,656 | 11,811,293 | 11,655,931 | 11,500,568 | −6
Norfolk, VA | 5,990,787 | 5,892,750 | 5,794,712 | 5,696,675 | 5,598,637 | 5,500,600 | −8
Oakland, CA | 7,360,883 | 7,304,436 | 7,247,989 | 7,191,542 | 7,135,095 | 7,078,648 | −4
Orlando, FL | 10,939,376 | 11,032,797 | 11,126,219 | 11,219,640 | 11,313,062 | 11,406,483 | 4
Paterson, NJ | 3,918,044 | 3,864,059 | 3,810,075 | 3,756,090 | 3,702,106 | 3,648,121 | −7
Philadelphia, PA | 22,766,093 | 22,594,485 | 22,422,877 | 22,251,268 | 22,079,660 | 21,908,052 | −4
Phoenix, AZ | 11,049,463 | 11,194,456 | 11,339,448 | 11,484,441 | 11,629,433 | 11,774,426 | 7
Portland, OR | 4,088,295 | 4,182,057 | 4,275,820 | 4,369,582 | 4,463,345 | 4,557,107 | 11
Sacramento, CA | 3,832,752 | 3,919,081 | 4,005,410 | 4,091,739 | 4,178,068 | 4,264,397 | 11
Saint Louis, MO | 6,388,344 | 6,243,701 | 6,099,057 | 5,954,414 | 5,809,770 | 5,665,127 | −11
San Antonio, TX | 6,221,586 | 6,228,572 | 6,235,558 | 6,242,543 | 6,249,529 | 6,256,515 | 1
San Bernardino, CA | 9,283,666 | 9,971,030 | 10,658,395 | 11,345,759 | 12,033,124 | 12,720,488 | 37
San Diego, CA | 12,325,778 | 12,221,689 | 12,117,599 | 12,013,510 | 11,909,420 | 11,805,331 | −4
San Francisco, CA | 14,841,000 | 14,267,393 | 13,693,786 | 13,120,180 | 12,546,573 | 11,972,966 | −19
San Jose, CA | 3,496,090 | 3,418,963 | 3,341,836 | 3,264,708 | 3,187,581 | 3,110,454 | −11
San Juan, PR | 10,360,633 | 10,045,103 | 9,729,573 | 9,414,043 | 9,098,513 | 8,782,983 | −15
Santa Ana, CA | 6,679,132 | 6,523,893 | 6,368,654 | 6,213,416 | 6,058,177 | 5,902,938 | −12
Seattle, WA | 7,189,780 | 7,135,849 | 7,081,919 | 7,027,988 | 6,974,058 | 6,920,127 | −4
Secaucus, NJ | 4,797,408 | 4,679,436 | 4,561,464 | 4,443,491 | 4,325,519 | 4,207,547 | −12
Tampa, FL | 10,650,266 | 10,961,615 | 11,272,965 | 11,584,314 | 11,895,664 | 12,207,013 | 15
Washington, DC | 32,044,482 | 31,995,758 | 31,947,034 | 31,898,309 | 31,849,585 | 31,800,861 | −1
West Palm Beach, FL | 7,428,827 | 7,419,646 | 7,410,465 | 7,401,284 | 7,392,103 | 7,382,922 | −1

Table 2—Estimated Future Part B Total Awards, 5-Year Transition
[Based on the FY 2025 Appropriation, not any future appropriations]
Part B grantee | FY 2025 final * | FY 2026 | FY 2027 | FY 2028 | FY 2029 | FY 2030 | Est. % change FY 2025- FY 2030
Alabama | $20,126,410 | $19,941,311 | $19,756,212 | $19,571,114 | $19,386,015 | $19,200,916 | −5
Alaska | 1,057,741 | 1,055,218 | 1,052,695 | 1,050,173 | 1,047,650 | 1,045,127 | −1
Arizona | 17,593,880 | 17,802,676 | 18,011,473 | 18,220,269 | 18,429,066 | 18,637,862 | 6
Arkansas | 8,467,112 | 8,412,595 | 8,358,077 | 8,303,560 | 8,249,042 | 8,194,525 | −3
California | 140,896,380 | 139,520,418 | 138,144,456 | 136,768,493 | 135,392,531 | 134,016,569 | −5
Colorado | 13,159,341 | 13,301,576 | 13,443,811 | 13,586,047 | 13,728,282 | 13,870,517 | 5
Connecticut | 10,028,100 | 10,018,521 | 10,008,941 | 9,999,362 | 9,989,782 | 9,980,203 | 0
Delaware | 4,559,579 | 4,643,438 | 4,727,296 | 4,811,155 | 4,895,013 | 4,978,872 | 9
District of Columbia | 15,877,251 | 15,577,494 | 15,277,736 | 14,977,979 | 14,678,221 | 14,378,464 | −9
Florida | 117,953,889 | 118,297,990 | 118,642,091 | 118,986,193 | 119,330,294 | 119,674,395 | 1
Georgia | 65,937,492 | 66,625,016 | 67,312,540 | 68,000,063 | 68,687,587 | 69,375,111 | 5
Hawaii | 3,352,217 | 3,285,288 | 3,218,358 | 3,151,429 | 3,084,499 | 3,017,570 | −10
Idaho | 1,567,448 | 1,639,775 | 1,712,102 | 1,784,428 | 1,856,755 | 1,929,082 | 23
Illinois | 43,632,706 | 42,894,324 | 42,155,943 | 41,417,561 | 40,679,180 | 39,940,798 | −8
Indiana | 14,826,971 | 14,923,455 | 15,019,939 | 15,116,423 | 15,212,907 | 15,309,391 | 3
Iowa | 3,671,105 | 3,783,456 | 3,895,806 | 4,008,157 | 4,120,507 | 4,232,858 | 15
Kansas | 3,874,733 | 3,864,859 | 3,854,986 | 3,845,112 | 3,835,239 | 3,825,365 | −1
Kentucky | 10,928,564 | 11,047,437 | 11,166,309 | 11,285,182 | 11,404,054 | 11,522,927 | 5
Louisiana | 23,907,778 | 23,576,125 | 23,244,472 | 22,912,820 | 22,581,167 | 22,249,514 | −7
Maine | 1,744,812 | 1,866,696 | 1,988,579 | 2,110,463 | 2,232,346 | 2,354,230 | 35
Maryland | 31,501,279 | 31,596,615 | 31,691,952 | 31,787,288 | 31,882,625 | 31,977,961 | 2
Massachusetts | 20,049,557 | 20,111,599 | 20,173,642 | 20,235,684 | 20,297,727 | 20,359,769 | 2
Michigan | 18,646,797 | 18,494,389 | 18,341,980 | 18,189,572 | 18,037,163 | 17,884,755 | −4
Minnesota | 8,739,953 | 8,871,333 | 9,002,713 | 9,134,092 | 9,265,472 | 9,396,852 | 8
Mississippi * | 14,270,758 | 14,037,073 | 13,803,388 | 13,569,703 | 13,336,018 | 13,102,333 | −8
Missouri | 13,771,559 | 13,679,499 | 13,587,439 | 13,495,380 | 13,403,320 | 13,311,260 | −3
Montana | 868,081 | 897,158 | 926,235 | 955,311 | 984,388 | 1,013,465 | 17
Nebraska | 3,366,792 | 3,400,072 | 3,433,352 | 3,466,632 | 3,499,912 | 3,533,192 | 5
Nevada | 10,233,918 | 10,494,661 | 10,755,404 | 11,016,148 | 11,276,891 | 11,537,634 | 13
New Hampshire | 1,408,963 | 1,453,490 | 1,498,017 | 1,542,545 | 1,587,072 | 1,631,599 | 16
New Jersey | 36,785,442 | 36,225,650 | 35,665,857 | 35,106,065 | 34,546,272 | 33,986,480 | −8
New Mexico | 4,461,845 | 4,593,522 | 4,725,199 | 4,856,877 | 4,988,554 | 5,120,231 | 15
New York | 121,693,828 | 121,502,862 | 121,311,896 | 121,120,931 | 120,929,965 | 120,738,999 | −1
North Carolina | 36,933,968 | 37,344,393 | 37,754,819 | 38,165,244 | 38,575,670 | 38,986,095 | 6
North Dakota | 865,271 | 870,269 | 875,267 | 880,265 | 885,263 | 890,261 | 3
Ohio | 25,253,858 | 25,312,408 | 25,370,959 | 25,429,509 | 25,488,060 | 25,546,610 | 1
Oklahoma * | 9,505,525 | 9,559,364 | 9,613,203 | 9,667,041 | 9,720,880 | 9,774,719 | 3
Oregon | 6,647,795 | 6,823,869 | 6,999,943 | 7,176,016 | 7,352,090 | 7,528,164 | 13
Pennsylvania | 41,565,377 | 42,048,395 | 42,531,413 | 43,014,432 | 43,497,450 | 43,980,468 | 6
Puerto Rico | 20,773,717 | 20,155,207 | 19,536,697 | 18,918,186 | 18,299,676 | 17,681,166 | −15
Rhode Island | 3,586,062 | 3,617,595 | 3,649,129 | 3,680,662 | 3,712,196 | 3,743,729 | 4
South Carolina | 25,101,893 | 25,026,412 | 24,950,930 | 24,875,449 | 24,799,967 | 24,724,486 | −2
South Dakota | 1,018,404 | 1,028,291 | 1,038,178 | 1,048,066 | 1,057,953 | 1,067,840 | 5
Tennessee | 19,798,995 | 19,775,561 | 19,752,126 | 19,728,692 | 19,705,257 | 19,681,823 | −1
Texas | 118,321,330 | 118,926,803 | 119,532,276 | 120,137,749 | 120,743,222 | 121,348,695 | 3
Utah | 5,084,544 | 5,130,773 | 5,177,003 | 5,223,232 | 5,269,462 | 5,315,691 | 5
Vermont | 863,866 | 895,162 | 926,459 | 957,755 | 989,052 | 1,020,348 | 18
Virginia | 25,905,308 | 25,818,054 | 25,730,801 | 25,643,547 | 25,556,294 | 25,469,040 | −2
Washington | 15,920,820 | 16,212,199 | 16,503,578 | 16,794,956 | 17,086,335 | 17,377,714 | 9
West Virginia | 2,779,989 | 2,808,260 | 2,836,530 | 2,864,801 | 2,893,071 | 2,921,342 | 5
Wisconsin | 8,976,297 | 9,042,676 | 9,109,055 | 9,175,435 | 9,241,814 | 9,308,193 | 4
Wyoming | 759,202 | 763,113 | 767,024 | 770,936 | 774,847 | 778,758 | 3
Guam | 280,781 | 279,217 | 277,652 | 276,088 | 274,523 | 272,959 | −3
Virgin Islands | 966,648 | 951,454 | 936,259 | 921,065 | 905,870 | 890,676 | −8
American Samoa | 50,001 | 50,004 | 50,007 | 50,009 | 50,012 | 50,015 | 0
Marshall Islands | 50,702 | 50,699 | 50,696 | 50,694 | 50,691 | 50,688 | 0
Mariana Island | 59,834 | 59,794 | 59,755 | 59,715 | 59,676 | 59,636 | 0
Republic of Palau * | 56,322 | 56,297 | 56,271 | 56,246 | 56,220 | 56,195 | 0
F. States Micronesia | 50,702 | 50,975 | 51,247 | 51,520 | 51,792 | 52,065 | 3
Note: Mississippi, Oklahoma, and Palau FY 2025 amounts are estimates that do not include penalties assessed in FY 2025 and as such do not reflect actual FY 2025 funding amounts.

Thomas J. Engels,
Administrator.

[FR Doc. 2025-19838 Filed 11-7-25; 8:45 am]

BILLING CODE 4165-15-P